DEPARTMENT OF AGRICULTURE

Animal and Plant Health Inspection Service

[Docket No. APHIS-2013-0014]

Information Sharing With Agency Stakeholders: Public Meeting

AGENCY: Animal and Plant Health Inspection Service.

ACTION: Request for information and notice of public meeting.

SUMMARY: We are informing the public that the Animal and Plant Health Inspection Service (APHIS) is soliciting feedback from our stakeholders regarding cross-Agency strategic priorities. We are also announcing that APHIS is hosting a public meeting to share information about the Agency's budget and program restructuring, as well as to provide an opportunity for stakeholders to ask questions and share their perspective.

DATES: The meeting will be held on April 11, 2013, from 10 a.m. to noon. We will accept stakeholder feedback on the specific topics raised in this notice until May 13, 2013.

ADDRESSES: The meeting will be held in room 107A at the USDA Whitten Building, 1400 Independence Avenue SW., Washington, DC. You may submit feedback on the topics covered in this notice to the person listed under FOR FURTHER INFORMATION CONTACT or by submitting a comment using the Regulations.gov Web site (http://www.regulations.gov/#!documentDetail;D=APHIS-2013-0014-0001).

FOR FURTHER INFORMATION CONTACT: Ms. Hallie Zimmers, Adviser for State and Stakeholder Relations, APHIS, Room 1153, 1400 Independence Avenue SW., Washington, DC 20250; phone (202) 799-7029.

SUPPLEMENTARY INFORMATION: As part of its ongoing efforts to enhance stakeholder communication and information sharing, the U.S. Department of Agriculture's (USDA) Animal and Plant Health Inspection Service (APHIS) is hosting an open meeting with all interested stakeholders to discuss the Agency's budget, pending program restructuring and potential impacts, and several cross-Agency strategic priorities.

Like all Federal agencies, APHIS is facing a number of new and evolving challenges, including decreasing budgets, fewer available resources, and the continued need to successfully balance science, policy, and public opinion. As we plan for how to position APHIS to meet these and other challenges, our commitment to our animal and plant health mission remains firm. In keeping with this commitment, we want to continue to improve our business strategies and program delivery methods to enhance our overall effectiveness. As we begin to consider new opportunities and rethink current business practices, we want to engage our stakeholders in a dialog early in the process to ensure we're in alignment with our customers' needs. In particular, we are interested in your perspective regarding:

• Public and private partnerships, such as disease management and eradication programs that benefit from State and industry contributions.

• Non-regulatory solutions, such as compliance and education programs that can be used, when appropriate, to achieve results without the need for rulemaking.

• New technology that encourages commerce or enhances APHIS' ability to protect American agriculture.

• Customer service improvements that make it easier for stakeholders to do business with APHIS.

These are just a few examples; we believe many additional opportunities exist under the broad priorities of public and private partnerships, non-regulatory solutions, new technology and customer service. APHIS will speak to how the Agency is considering and already using these cross-Agency strategic priorities in greater depth at the public meeting. Ultimately, we believe stakeholders are in a unique position to provide insight and offer up new approaches that will enable APHIS to more effectively carry out our animal and plant mission and better serve our many customers.

You may submit your thoughts and feedback by responding to this notice (see ADDRESSES above) or by emailing partnerships@aphis.usda.gov. You can also bring a paper copy of your comments to the public meeting where you will also have the opportunity to share your perspective directly with the APHIS Management Team.

Persons attending the April 11, 2013, meeting in Washington, DC, are required to register in advance at https://web01.aphis.usda.gov/MeetingReg.nsf/MtgRegistration?openform or by contacting the person listed under FOR FURTHER INFORMATION CONTACT. All registrants will be required to sign in at either the Independence Avenue or Jefferson Drive entrances to USDA's Whitten Building, which is located at 1400 Independence Avenue SW. Photo identification is required to gain access to the building. The nearest Metro station is the Smithsonian station on the Blue/Orange Lines, which is within easy walking distance.

If you are unable to attend the meeting in person, it will be streamed on the Internet as a live Webcast. An audio conference line will also be made available for remote participants to ask questions. Information about how to join the live Webcast and conference line will be made available at http://www.aphis.usda.gov/stakeholders/. We recommend that you connect at least 5 minutes prior to the start of the meeting. A recording of the Webcast will be posted to the APHIS stakeholder information page for anyone who is unable to join the meeting on April 11, 2013.

Done in Washington, DC, this 5th day of March 2013.
Kevin Shea,
Acting Administrator, Animal and Plant Health Inspection Service.

[FR Doc. 2013-05566 Filed 3-11-13; 8:45 am]

BILLING CODE 3410-34-P